ENVIRONMENTAL PROTECTION AGENCY

[FRL-7466-3]

Office of Air and Radiation Environmental Internship Assistance Competition: Solicitation Notice

AGENCY: Environmental Protection Agency (EPA).

ACTION: Notice; request for initial proposals.

SUMMARY: This document solicits proposals from educational institutions and nonprofit organizations to provide internships for undergraduate students with internships in various environmental positions at EPA, Native American Tribal lands, and other institutions. Students are provided with work experience that will enable them to prepare to become future leaders in the environmental field. Additionally, the internship will provide a consciousness that will enable the student to recognize and manage complex environmental problems.

SUPPLEMENTARY INFORMATION:

Contents by Section

I. Background/ Purpose

II. Funding Issues

III. Eligibility

IV. Cooperative Agreement

V. Deadlines/ Dates

VI. Program Design

VII. Criteria/ Scope

VIII. Proposals Format

IX. Where and When to Submit

X. Pre-application Assistance

XI. Notification of Proposal Receipt

XII. Notification of Unsuccessful Offerors

XIII. Completed Application Package

XIV. Executive Order 12372

XV. Award Date

XVI. Dispute Resolution Process

XVII. Applicable Regulations

XVIII. Confidential Business Information

I. Background/ Purpose

This document solicits cooperative agreement proposals from educational institutions and non-profit organizations supporting the Office of Air and Radiation's Environmental Internship Program. This cooperative agreement will provide summer internships for undergraduate students with internships in various environmental positions at EPA, Native American Tribal lands, and other institutions. EPA will provide students with work experience and orientation to support their environmental training positions. This assistance agreement will enable students to prepare to become future leaders in the environmental field and to recognize and appropriately manage complex environmental problems. It will also provide students with an environmental consciousness to encourage them to pursue environmental careers and become environmentally conscious citizens. Because this internship involves possible placement of interns onto Tribal lands, special consideration will be given to schools that have had a demonstrated history of recruiting students with prior experience working on tribal issues. However, all universities are encouraged to apply. The Catalogue of Federal Domestic Assistance (CFDA) for this program is 66.607.

II. Funding Issues

Depending upon the availability of funds, it is anticipated that a total of approximately $400,000 over three years, including direct and indirect costs, will be awarded in FY 2003. Proposals may request funding with a total project cost of up to $133,333 per year with a duration of up to three years. This cooperative agreement is authorized under CAA section 103(b)(3) and no matching funds are required from the recipient.

III. Eligibility

Organizations being targeted for this assistance agreement include accredited 4-year educational institutions and non-profit organizations. EPA reserves the right to reject all applications and make no awards.

IV. Cooperative Agreement

The resulting award will be a Cooperative Agreement. Cooperative Agreements involve substantial involvement between the EPA Project Officer and the selected applicant. Anticipated substantial Federal involvement for this project will include:

1. The EPA Project Officer will be part of the final evaluation of the interns for placement. The final decision of intern selection and placement rests with the recipient.

2. No stipend dollars will be used for any other purposes without the prior approval of the EPA Project Officer.

3. The EPA Project Officer will accompany the recipient on site visits (internship placement locations) and recruitments, when necessary.

V. Deadlines/Dates

In order to efficiently manage the selection process, the Office of Air and Radiation requests that an informal “Intent to Apply” be submitted by March 28, 2003. (Please provide project title or subject and e-mail address.) An “Intent to Apply” simply states, in the form of e-mail, mail, or fax, that your organization intends to submit a proposal to be received by the deadline. Submitting an “Intent to Apply” does not commit an organization to submit a pre-proposal. The “Intent to Apply” is an optional submission; those not submitting an “Intent to Apply” may still apply by the deadline for submitting proposals, which is April 29, 2003. However, only those submitting an intent to apply will be given the conference call-in number for pre-application assistance (please see section X “Pre-application assistance”). Instructions for submitting Intents to Apply and Proposals are found in section IX “Where and When to Submit.”

VI. Program Design

EPA anticipates student stipends to be approximately $4,500 per semester and the housing allowance to be approximately $1,500 (on an as-needed basis.) The Office of Air and Radiation expects to host a minimum of ten students per semester. Applicants should describe the following in detail:

• Recruitment: Each proposal should address their recruitment process in terms of obtaining a diverse population of students. Universities that have a demonstrated history of recruiting students who have had prior experience on tribal issues will be given special consideration.

• Stipends: Ability to process student stipends. Describe process for paying student stipends.

• Tracking: Ability to track students after completing the environmental program (i.e. final employment selections, location of position, post-graduate work) for the purposes of creating an alumni database, measure effectiveness of program and to provide new students with information and phone numbers of previous students.

• Student Application Processing and Evaluation: Recipients must have a system to process and evaluate applications. At a minimum, the application process must evaluate potential interns on the basis of their academic record, computer skills, awards, and writing skills. Special consideration will be given to applicants that have scholarships, fellowships and/or work experience on tribal issues. Students must have a grade point average of 2.8 or higher to meet eligibility for internships at EPA.

• Eligibility requirements for internships: Students must be enrolled in a four-year accredited college or university. Students enrolled in a four-year college or university must have achieved at least second semester sophomore standing, or have completed 45 credit hours of academic study.

• Internship Management: Their recruitment priorities, internship management and how they foresee interaction with EPA. Applicants should describe training for students (i.e. environmental, math, science courses), and student intern performance evaluations.

• Orientation in Washington, DC: The orientation program should provide an opportunity for students to familiarize themselves with their prospective program offices and the functions of the program office as well as the issues of the specific media (water, air, solid waste, etc).

• Placements: Applicants should describe the process and how they will select placement sites focusing on tribal placements, when applicable.

• Housing: Include how housing (if needed) will be provided to students in the various project sites.

• Personnel and Administrative Services: Include how personnel and administrative services for interns will be provided. Such services should include ensuring students provide their own short-term sickness and accident insurance and assisting students with financial support (bank services for student to deposit stipend checks, etc.).

• Program Effectiveness: How the applicant plans to evaluate the success of each year of the three-year program, and what corrective action they will take to make any necessary improvements.

VII. Criteria/Scope

• Review and Selection Process: Proposals submitted to EPA headquarters will be evaluated using the criteria defined below. Proposals will be reviewed in two phases—the screening phase and the evaluation phase. During the screening phase, proposals will be reviewed to determine whether they meet the eligibility requirement of this document (please see section III “Eligibility”). Only those proposals that meet the eligibility requirement will enter the full evaluation phase of the review process. During the evaluation phase, proposals will be evaluated based upon the quality of their proposals. Reviewers conducting the screening and evaluation phases of the review process will include EPA officials and external environmental educators approved by EPA. At the conclusion of the evaluation phase, the reviewers will score work plans, on a one hundred point scale, based upon the system below:

Criterion | Maximum points per criterion
Effectiveness of overall work plan and ability to cover all items listed in Section VI “Program Design” | 25
Ability to recruit a diverse group of students and those with prior experience working on tribal issues or having familiarity and knowledge about tribal issues | 20
Effectiveness of placements focusing on site and diversity of placement | 20
Ability to plan and execute an orientation for each internship class | 20
Ability to evaluate student performance | 10
A detailed yearly budget | 5
Total Points Possible | 100

• After the scores are evaluated and ranked, the selected applicant will be asked to submit a complete application package. For further information on submitting completed application packages, please see Section XIII below.

VIII. Proposal Format

The proposal should conform to the following outline:

1. Title

2. Applicant (Organization) and contact name, phone number, fax and e-mail address

3. Summary of funds requested

4. Project period: Beginning and ending dates (for planning purposes, applicants should assume funds will be available on August 1, 2003).

5. Project work plan (including a description of all tasks, dates of completion, products and deliverables). The project work plan should cover all items listed in section VI “Project Design.”

6. Report Schedule: Acknowledgment of quarterly report requirement (schedule established by EPA) and planned final report submission date (due 90 days after the project end date).

7. Budget (Please provide with a narrative explanation for the following categories):

a. Personnel.

b. Fringe Benefits.

c. Contractual Costs.

d. Travel.

e. Equipment.

f. Supplies.

g. Other.

h. Total Direct Costs (add a-g).

i. Total Indirect Costs (must include documentation of accepted indirect rate).

j. Total Cost (add h and i).

Costs proposed in the budget must be linked directly to the proposal. For example, if there is travel in connection with recruiting efforts, the budget should reflect travel costs.

8. Attach a one page resume for key personnel conducting the project.

IX. Where and When To Submit

Please submit intents to apply by March 28, 2003 Intents to Apply must be e-mailed, faxed, or mailed to the Project Officer, Linda Zarow. If Intents to Apply are mailed, they must be received by March 28, 2003. Only those submitting an “Intent to Apply” will be given the conference call-in number for pre-application assistance (please see section X “Pre-application Assistance”). Send “Intents to Apply” to: Linda Zarow, Ariel Rios Building, 1200 Pennsylvania Ave., Washington, DC 20004; mail code 6101A; Rm 5433; fax: (202) 501-1004; email: zarow.linda@epa.gov. Please include organization name, contact, and phone number.

Please submit proposals by April 29, 2003 (Remember, the Intent to Apply is not required and will have no bearing on the judging process, we recommend it for the benefit of our planning process only.) Please submit an original and three copies of the proposal. Submission of the Intent to Apply does not commit the applicant to submit a proposal. Submission of an Intent to Apply or a proposal does not guarantee funding. Electronic proposals will be accepted.

X. Pre-Application Assistance

To ensure that every interested party has equal opportunity to gain any needed additional administrative information useful to the application process, the Office of Air and Radiation has scheduled one conference call. The call will take place on April 10, 2003 from 10 AM to 12 PM EST. A call-in number will provided to those who submit an Intent to Apply. Questions and answers from this conference call will be summarized and posted on OAR's web-site. The web-site address will be available at the pre-application assistance conference. Federal rules protecting applicants' equal access to information prohibit any other contact that would result in information given to some but not all applicants. Therefore, as much as it desires to encourage all interested applicants, EPA can give no other assistance prior to final submission of applications. Requests for information outside the context of this conference call cannot be answered. The content of the call is entirely dependent upon questions asked.

XI. Notification of Proposal Receipt

If the applicant includes a stamped, self-addressed postcard along with proposal, the applicant will be notified of proposal receipt.

XII. Notification of Unsuccessful Offerors

The Office of Air and Radiation will notify all unsuccessful offerors no later than 60 days after notifying the selected applicant.

XIII. Completed Application Packages

Completed application package: Applies only to the selected applicant. The selected applicant will be contacted by the Project Officer and will be requested to submit a complete application. Instruction on how to obtain an application tool kit will be provided at that time. The application must be postmarked or received by regular or express mail on or before midnight May 30, 2003. Please provide an original and six copies. Electronic applications will be accepted.

The application package should be submitted to Linda Zarow at: Ariel Rios Building, 1200 Pennsylvania Ave. Rm. 5433, Washington DC 20004; mail code 6101A. Courier or personally delivered applications must be brought to the same address.

XIV. Executive Order 12372

The applicant selected for funding will be required to provide a copy of the proposal to their designated State Point of Contact for review, pursuant with Executive Order 12372. This review is not required of initial proposals; only to the selected applicant.

XV. Award Date

Subject to the availability of funding, awards should be made by August 1, 2003 for placement in the summer term 2004.

XVI. Dispute Resolution Process

The Agency will resolve any disputes arising from this solicitation pursuant to the procedures outlined at 40 CFR 30.63 and § 31.70, subpart F.

XVII. Applicable Regulations and OMB Circulars

The applicant selected will abide by 40 CFR part 30, OMB Circular A-122, and OMB Circular A-133.

XVIII. Confidential Business Information

If any portion of an applicant's proposal is comprised of confidential business information (CBI), appropriate pages should be so marked at the top of each page.

FOR FURTHER INFORMATION CONTACT: Linda Zarow, USEPA, Office of Air and Radiation, Immediate Office, Ariel Rios Building, 1200 Pennsylvania Avenue, NW., Washington, DC 20004, Mail Code 6101A, Rm 5433. Telephone (202)564-7431; Fax (202) 501-1004; or e-mail: zarow.linda@epa.gov.

Dated: March 7, 2003.
Elizabeth Craig,
Deputy Assistant Administrator, Office of Air and Radiation.

[FR Doc. 03-6107 Filed 3-12-03; 8:45 am]

BILLING CODE 6560-50-P